DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: West Coast Region Pacific Coast Groundfish Fishery: Trawl Rationalization Cost Recovery Program.

OMB Control Number: 0648-0663.

Form Number(s): None.

Type of Request: Regular (extension of a currently approved information collection).

Number of Respondents: 176.

Average Hours per Response: Cost recovery and annual reporting forms, 1 hour; failure to pay reports, 4 hours.

Burden Hours: 1,898.

Needs and Uses: This request is for an extension of a currently approved information collection.

The Magnuson-Stevens Fishery Conservation and Management Act requires that the Secretary of Commerce maintain a cost recovery program to cover part of the management, data collection, and enforcement costs of the limited access privilege programs, such as the Pacific coast groundfish fishery's trawl rationalization program. This cost recovery program requires fish sellers to submit fees to fish buyers who then submit those fees to the National Marine Fisheries Service (NMFS) and include information about the volume and value of groundfish. Information is collected from monthly and annual reports as well as non-payment documents when necessary.

This program is authorized under the Pacific coast groundfish fishery regulations, trawl rationalization cost recovery program at 50 CFR 660.115.

Affected Public: Business or other for-profit organizations.

Frequency: Monthly and annually.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Dated: November 30, 2016.
Sarah Brabson,
NOAA PRA Clearance Officer.

[FR Doc. 2016-29233 Filed 12-5-16; 8:45 am]

BILLING CODE 3510-22-P